DEPARTMENT OF HOMELAND SECURITY

Federal Emergency Management Agency

[Docket ID FEMA-2018-0002; Internal Agency Docket No. FEMA-B-1812]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: March 1, 2018.
Roy E. Wright,
Deputy Associate Administrator for Insurance and Mitigation, Department of Homeland Security, Federal Emergency Management Agency.

State and county | Location and case No. | Chief executive officer of community | Community map repository | Online location of letter of map revision | Date of modification | Community No.
California:
Riverside | City of Corona (17-09-2752P). | The Honorable Karen Spiegel Mayor, City of Corona, 400 South Vicentia Avenue Corona, CA 92882. | City Hall 400 South Vicentia Avenue, Corona, CA 92882. | https://msc.fema.gov/portal/advanceSearch. | Jun. 14, 2018 | 060250
Riverside | Unincorporated Areas of Riverside County (17-09-2752P). | The Honorable Chuck Washington Chairman, Board of Supervisors Riverside County, 4080 Lemon Street 5th Floor, Riverside, CA 92501. | Riverside County Flood Control and Water Conservation District, 1995 Market Street, Riverside, CA 92501. | https://msc.fema.gov/portal/advanceSearch. | Jun. 14, 2018 | 060245
Hawaii: Honolulu | City and County of Honolulu (18-09-0118P). | The Honorable Kirk Caldwell Mayor, City and County of Honolulu, 530 South King Street, Room 306, Honolulu, HI 96813. | Department of Planning and Permitting, 650 South King Street, Honolulu, HI 96813. | https://msc.fema.gov/portal/advanceSearch. | May 29, 2018 | 150001
Idaho:
Ada | City of Kuna (17-10-1636P). | The Honorable Joe Stear Mayor, City of Kuna, P.O. Box 13, Kuna, ID 83634. | City Hall 329 West 3rd Street, Kuna, ID 83634. | https://msc.fema.gov/portal/advanceSearch. | Jun. 7, 2018 | 160174
Ada | Unincorporated Areas of Ada County (17-10-1636P). | The Honorable David L. Case Chairman, Ada County Board of Commissioners, 200 West Front Street, 3rd Floor, Boise, ID 83702. | Ada County Courthouse, 200 West Front Street, Boise, ID 83702. | https://msc.fema.gov/portal/advanceSearch. | Jun. 7, 2018 | 160001
Ada | Unincorporated Areas of Ada County (18-10-0284X). | The Honorable David L. Case Chairman, Ada County Board of Commissioners, 200 West Front Street, 3rd Floor, Boise, ID 83702. | Ada County Courthouse, 200 West Front Street, Boise, ID 83702. | https://msc.fema.gov/portal/advanceSearch. | Jun. 8, 2018 | 160001
Illinois:
McHenry | Unincorporated Areas of McHenry County (18-05-2003P). | The Honorable Jack D. Franks Chairman, McHenry County Board County Government Center, 2200 North Seminary Avenue, Woodstock, IL 60098. | County Government Center, 2200 North Seminary Avenue, Woodstock, IL 60098. | https://msc.fema.gov/portal/advanceSearch. | June 14, 2018 | 170732
McHenry | Village of Port Barrington (18-05-2003P). | The Honorable Shannon Yeaton Village President, Village of Port Barrington, 69 South Circle Avenue Port, Barrington, IL 60010. | Village Hall, 69 South Circle Avenue Port, Barrington, IL 60010. | https://msc.fema.gov/portal/advanceSearch. | June 14, 2018 | 170478
Iowa: Bremer | City of Waverly (18-07-0164P). | The Honorable Charles D. Infelt Mayor, City of Waverly, 200 1st Street Northeast, Waverly, IA 50677. | City Hall 200 1st Street Northeast Waverly, IA 50677. | https://msc.fema.gov/portal/advanceSearch. | Jun. 1, 2018 | 190030
Kansas: Johnson | City of Olathe (17-07-2080P). | The Honorable Michael Copeland Mayor, City of Olathe, P.O. Box 768, Olathe, KS 66051. | City Hall Olathe Planning Office, 100 West Santa Fe Drive, Olathe, KS 66061. | https://msc.fema.gov/portal/advanceSearch. | Jun. 1, 2018 | 200173
Minnesota: Anoka | City of Lino Lakes (17-05-5610P). | The Honorable Jeff Reinert Mayor, City of Lino Lakes, 600 Town Center Parkway Lino, Lakes, MN 55014. | City Hall, 600 Town Center Parkway Lino, Lakes, MN 55014. | https://msc.fema.gov/portal/advanceSearch. | May 30, 2018 | 270015
Missouri: Christian | City of Nixa (17-07-1573P). | The Honorable Brian E. Steele Mayor, City of Nixa, 715 West Mount Vernon Street, Nixa, MO 65714. | City Hall, 715 West Mount Vernon Street, Nixa, MO 65714. | https://msc.fema.gov/portal/advanceSearch. | May 10, 2018 | 290078
Nevada: Douglas | Unincorporated Areas of Douglas County (17-09-2481P). | The Honorable Barry Penzel Chairman, Board of Commissioners Douglas County, P.O. Box 218, Minden, NV 89423. | Douglas County Community Development, 1594 Esmeralda Avenue, Minden, NV 89423. | https://msc.fema.gov/portal/advanceSearch. | Jun. 7, 2018 | 320008
Oregon:
Marion | City of Salem (17-10-1422P). | The Honorable Chuck M. Bennett Mayor, City of Salem City Hall, 555 Liberty Street Southeast, Room 220, Salem, OR 97301. | Public Works Department, 555 Liberty Street Southeast, Room 325, Salem, OR 97301. | https://msc.fema.gov/portal/advanceSearch. | May 29, 2018 | 410167
Marion | Unincorporated Areas of Marion County (17-10-1422P). | Mr. Sam Brentano Commissioner Marion County, 555 Court Street Northeast, Suite 5232, Salem, OR 97309. | Marion County Department of Planning, 315 Lancaster Drive Northeast, Salem, OR 97305. | https://msc.fema.gov/portal/advanceSearch. | May 29, 2018 | 410154

[FR Doc. 2018-05416 Filed 3-15-18; 8:45 am]

BILLING CODE 9110-12-P